DEPARTMENT OF COMMERCE

International Trade Administration

[A-570-178]

Certain Tungsten Shot From the People's Republic of China: Postponement of Preliminary Determination in the Less-Than-Fair-Value Investigation

AGENCY: Enforcement and Compliance, International Trade Administration, Department of Commerce.

DATES: Applicable November 15, 2024.

FOR FURTHER INFORMATION CONTACT: Caroline Carroll, AD/CVD Operations, Office IX, Enforcement and Compliance, International Trade Administration, U.S. Department of Commerce, 1401 Constitution Avenue NW, Washington, DC 20230; telephone: (202) 482-4948.

SUPPLEMENTARY INFORMATION:

Background

On August 6, 2024, the U.S. Department of Commerce (Commerce) initiated a less-than-fair-value (LTFV) investigation on imports of certain tungsten shot (tungsten shot) from the People's Republic of China (China).¹ Currently, the Commerce is due to issue the preliminary determination in this investigation no later than December 24, 2024.

¹ See Certain Tungsten Shot from the People's Republic of China: Initiation of Less-Than-Fair-Value Investigation, 89 FR 65856 (August 13, 2024).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 6, 2024, the petitioner ² submitted a timely request that Commerce postpone the preliminary determination in the LTFV investigation.³ The petitioner stated that it requests postponement to allow Commerce adequate time to conduct a thorough analysis in this investigation and collect the necessary information for determining the most accurate possible antidumping duty margins.⁴

² The petitioner is Tungsten Parts Wyoming, Inc.

³ See Petitioner's Letter, “Request to Postpone Preliminary Determination,” dated November 6, 2024.

⁴ Id.

For the reasons stated above and because there are no compelling reasons to deny the request, Commerce, in accordance with section 733(c)(1)(A) of the Act, is postponing the deadline for the preliminary determination by 50 days (i.e., 190 days after the date on which this investigation was initiated). As a result, Commerce will issue its preliminary determination no later than February 12, 2025. In accordance with section 735(a)(1) of the Act and 19 CFR 351.210(b)(1), the deadline for the final determination of this investigation will continue to be 75 days after the date of the preliminary determination, unless postponed.

Notification to Interested Parties

This notice is issued and published pursuant to section 733(c)(2) of the Act and 19 CFR 351.205(f)(1).

Dated: November 8, 2024.
Abdelali Elouaradia,
Deputy Assistant Secretary for Enforcement and Compliance.

[FR Doc. 2024-26640 Filed 11-14-24; 8:45 am]

BILLING CODE 3510-DS-P